DEPARTMENT OF COMMERCE

National Oceanic and Atmospheric Administration

[RTID 0648-XD367]

Endangered Species; File No. 20528

AGENCY: National Marine Fisheries Service (NMFS), National Oceanic and Atmospheric Administration (NOAA), Commerce.

ACTION: Notice; receipt of application for a permit modification.

SUMMARY: Notice is hereby given that South Carolina Department of Natural Resources, 217 Fort Johnson Road, Charleston, SC 29412 (Bill Post, Responsible Party), has requested a modification to scientific research Permit No. 20528-04.

DATES: Written comments must be received on or before October 23, 2023.

ADDRESSES: The modification request and related documents are available for review by selecting “Records Open for Public Comment” from the Features box on the Applications and Permits for Protected Species (APPS) home page, https://apps.nmfs.noaa.gov, and then selecting File No. 20528 mod 13 from the list of available applications. These documents are also available upon written request via email to NMFS.Pr1Comments@noaa.gov.

Written comments on this application should be submitted via email to NMFS.Pr1Comments@noaa.gov. Please include File No. 20528 in the subject line of the email comment.

Those individuals requesting a public hearing should submit a written request via email to NMFS.Pr1Comments@noaa.gov. The request should set forth the specific reasons why a hearing on this application would be appropriate.

FOR FURTHER INFORMATION CONTACT: Erin Markin, Ph.D., or Malcolm Mohead, (301) 427-8401.

SUPPLEMENTARY INFORMATION: The subject modification to Permit No. 20528-04, issued on October 31, 2022 (87 FR 68133, November 14, 2022) is requested under the authority of the Endangered Species Act of 1973, as amended (16 U.S.C. 1531 et seq.) and the regulations governing the taking, importing, and exporting of endangered and threatened species (50 CFR parts 222-226).

Permit No. 20528-04 authorizes the permit holder to: conduct research on Atlantic (Acipenser oxyrinchus) and shortnose (A. brevirostrum) sturgeon to determine their presence, status, health, habitat use, and movements in South Carolina waters. Researchers may use gill nets to capture Atlantic and shortnose sturgeon to measure, weigh, passive integrated transponder tag (PIT), dart tag, tissue sample, fin ray sample, and photograph prior to release. A subset of Atlantic and shortnose sturgeon may receive internal acoustic transmitters, gonad biopsy, and laparoscopy. Early life stages of each species may be lethally sampled to document occurrence of spawning in systems. Up to two sturgeon of each species may unintentionally die annually during sampling activities. The permit holder requests authorization to: 1) increase the number of juvenile Atlantic sturgeon from 10 to 30 in the Santee, Edisto and Savannah Rivers, and from 20 to 30 in the Winyah Bay area to be captured, measured, weighed, PIT tagged, dart tagged, tissue sampled, acoustically tagged, fin ray sampled, and photographed annually prior to release; a subset may be biopsied (gonad) and laparoscopied, and 2) increase the number of juvenile Atlantic sturgeon from 70 to 125 in the Savannah River to be to be captured, measured, weighed, PIT tagged, dart tagged, tissue sampled, fin ray sampled, and photographed annually prior to release. The permit is valid through March 31, 2027.

Dated: September 19, 2023.
Julia M. Harrison,
Chief, Permits and Conservation Division, Office of Protected Resources, National Marine Fisheries Service.

[FR Doc. 2023-20576 Filed 9-21-23; 8:45 am]

BILLING CODE 3510-22-P